COMMITTEE FOR THE IMPLEMENTATION OF TEXTILE AGREEMENTS

Request for Public Comments on a Request That the United States Consult With Mexico and Canada Concerning a Certain Filament Yarn; Amendment

May 15, 2000.

AGENCY: Committee for the Implementation of Textile Agreements (CITA).

ACTION: Amending request for public comments concerning a request for consultations on certain filament yarn.

FOR FURTHER INFORMATION CONTACT: Martin Walsh, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

A notice published in the Federal Register on March 1, 2000 (65 FR 11040) advised the public that CITA had been petitioned to initiate consultations with Mexico and Canada under Section 7(2) of Annex 300-B of the North American Free Trade Agreement (NAFTA) for the purpose of amending the NAFTA rules of origin to permit the use of non-North American filament viscose rayon yarn classified in HTS headings 5403.10, 5403.31, 5403.32 and 5403.41 of the Harmonized Tariff Schedule of the United States in NAFTA originating goods. This notice amends, but does not cancel, that notice. The petition has been amended to request consultations on the use of non-North American filament yarn classified in HTS heading 5403.39 of the Harmonized Tariff Schedule of the United States, in addition to the four filament viscose rayon yarn headings listed in that notice.

There will be a 30-day comment period beginning on May 19, 2000 and extending through June 19, 2000. Anyone wishing to comment or provide data or information regarding domestic production or availability of filament yarn classified in HTS headings 5403.10, 5403.31, 5403.32, 5403.39 and 5403.41 is invited to submit 10 copies of such comments or information to D. Michael Hutchinson, Acting Chairman, Committee for the Implementation of Textile Agreements, U.S. Department of Commerce, Washington, DC 20230.

Comments or information submitted in response to this notice will be available for public inspection in the Office of Textiles and Apparel, room H3100, U.S. Department of Commerce, 14th and Constitution Avenue, NW, Washington, DC.

The solicitation of comments is not a waiver in any respect of the exemption contained in 5 U.S.C. 553(a)(1) relating to matters which constitute a “foreign affairs function of the United States.”

D. Michael Hutchinson,
Acting Chairman, Committee for the Implementation of Textile Agreements.

[FR Doc. 00-12626 Filed 5-18-00; 8:45 am]

BILLING CODE 3510-DR-F